DEPARTMENT OF THE INTERIOR

Bureau of Land Management

[20X LLUTC02000 L14400000.FR0000 241A; UTU-90172]

Notice of Realty Action: Recreation and Public Purposes Act Classification and Conveyance of Public Land in Sevier County, Utah

AGENCY: Bureau of Land Management, Interior.

ACTION: Notice of Realty Action.

SUMMARY: The Notice of Realty Action (NORA) announces the Bureau of Land Management (BLM) proposes to patent 154.694 acres of public land in Sevier County, Utah, to Sevier County for the expansion of the Sevier County landfill.

DATES: Interested parties may submit comments regarding this classification and conveyance of public land on or before January 25, 2021.

ADDRESSES: Comments may be submitted by mail to the Richfield Field Office, 150 East 900 North, Richfield, Utah, 84701 or by email to BLM_UT_RF_Comments@blm.gov, with a subject line of “Sevier County NORA comment.” See “Classification Comments” and “Application Comments” portions of this notice for specifics regarding subjects open to comments. Project information is available for review at https://go.usa.gov/xvjmr or by contacting the Richfield Field Office at the above address or at (435) 896-1500.

FOR FURTHER INFORMATION CONTACT: Michael Utley, Realty Specialist, at mutley@blm.gov or (435) 896-1515. Persons who use a telecommunications device for the deaf may call the Federal Relay Service (FRS) at 1-800-877-8339 to leave a message or question for the above individual. The FRS is available 24 hours a day, 7 days a week. Replies are provided during normal business hours.

SUPPLEMENTARY INFORMATION: In accordance with Section 7 of the Taylor Grazing Act and Executive Order No. 6910, as amended, the BLM examined certain public lands in Sevier County, Utah, and found them suitable for classification for conveyance to Sevier County under the provisions of the Recreation and Public Purposes (R&PP) Act, as amended., 43 U.S.C. 869 et seq.; Sec. 7 of the Taylor Grazing Act, 43 U.S.C. 315(f).

Sevier County submitted a statement in compliance with the regulations at 43 CFR 2741.4(b), and proposes to use the lands for expansion of the existing Sevier County landfill. The lands consist of 154.694 acres, must conform to the official plat of survey, and are legally described below. Sevier County has not applied for more than the 6,400-acre limitation for recreation uses in a year (or 640 acres if a nonprofit corporation or association), nor more than 640 acres for each of the programs involving public resources other than recreation. The lands examined and identified as suitable for lease or conveyance under the R&PP Act are legally described as:

Salt Lake Meridian, Utah

T. 22 S., R. 1 W.,

Sec. 34, SW¼NW¼SE¼ and W½SW¼SE¼.

T. 23 S., R. 1 W.,

Sec. 4, S½SW¼SE¼;

Sec. 9, lots 16 and 19, NW¼NE¼, N½SW¼NE¼, and SW¼SW¼NE¼.

The areas described aggregate 154.694 acres.

The lands are not needed for any Federal purposes.

Lease or conveyance of the lands for recreational or public purposes use is in conformance with the BLM Richfield Field Office Resource Management Plan, approved in October 2008, and would be in the public's interest. The BLM analyzed the parcel in a site-specific environmental assessment (EA) numbered DOI-BLM-UT-C020-2018-0039-EA. The EA has been published on the project's ePlanning site at https://go.usa.gov/xvjmr.

The conveyance of these parcels will not result in the loss of recreational access to adjacent lands in accordance with Secretary's Order 3373, Evaluating Public Access in Bureau of Land Management Public Land Disposals and Exchanges. There are no anticipated impacts to recreational access to adjacent lands from the conveyance because the existing roads will either be retained in place or rerouted by Sevier County. Because of this, access will continue to be provided to the public lands both north and south of the two conveyance parcels.

All interested parties will receive a copy of this notice once it is published in the Federal Register. A copy of the Federal Register notice with information about this proposed realty action will publish in a newspaper of local circulation once a week for three consecutive weeks. The regulations at 43 CFR subpart 2741 addressing requirements and procedures for conveyances under the R&PP Act do not require a public meeting. Upon publication of this notice in the Federal Register, the lands will be segregated from all other forms of appropriation under the public land laws, including locations under the mining laws, except for lease or conveyance under the R&PP Act and leasing under the mineral leasing laws.

The lease or conveyance of the land, when issued, will be subject to the following terms, conditions, and reservations:

1. A right-of-way thereon for ditches and canals constructed by the authority of the United States Act of August 30, 1890 (26 Stat. 391; 43 U.S.C. 945).

2. Provisions of the R&PP Act and to all applicable regulations of the Secretary of the Interior.

3. All mineral deposits in the land so patented, and the right to prospect for, mine, and remove such deposits from the same under applicable law and regulations as established by the Secretary of the Interior are reserved to the United States, together with all necessary access and exit rights.

4. Lease or conveyance of the parcel is subject to valid existing rights of record.

5. An appropriate indemnification clause protecting the United States from claims arising out of the lessee's/patentee's use, occupancy, or occupations on the leased/patented lands.

6. A limited reversionary provision stating the title shall revert to the United States upon a finding, after notice and opportunity for a hearing, that the patentee has not substantially developed the lands in accordance with the approved plan of development on or before the date five years after the date of conveyance. No portion of the land shall under any circumstance revert to the United States if any such portion has been used for solid waste disposal, or for any other purpose, which may result in the disposal, placement, or release of any hazardous substance.

7. The lessee/patentee shall comply with all Federal and State laws applicable to the disposal, placement, or release of hazardous substances.

8. Any other reservations the authorized officer determines appropriate to ensure public access and proper management of Federal lands and interests therein.

Classification Comments: Interested persons may submit comments involving the classification and suitability of the land for expansion and development of the existing landfill. Additionally, interested persons may submit comments regarding the specific use proposed in the application and plan of development and management, and whether the BLM followed proper administrative procedures in considering the decision to lease and convey under the R&PP Act.

Application Comments: Interested persons may submit comments regarding the specific use proposed in the application and plan of development and management, and whether the BLM followed proper administrative procedures in considering the decision to lease and convey under the R&PP Act.

Any adverse comments will be reviewed by the BLM Utah State Director or other authorized official of the Department of the Interior, who may sustain, vacate, or modify this realty action. In the absence of any adverse comments, the classification will become effective on February 9, 2021. The lands will not be offered for lease or conveyance until after the classification becomes effective.

Before including your address, phone number, email address, or other personal identifying information in your comment, you should be aware that your entire comment—including your personal identifying information—may be made publicly available at any time. While you can ask us in your comment to withhold your personal identifying information from public review, we cannot guarantee we will be able to do so.

Authority: 43 CFR 2741.5.

Gregory Sheehan,
State Director.

[FR Doc. 2020-27271 Filed 12-10-20; 8:45 am]

BILLING CODE 4310-DQ-P